DEPARTMENT OF LABOR

Mine Safety and Health Administration

[OMB Control No. 1219-0127]

Proposed Extension of Information Collection; Certification and Qualification To Examine, Test, Operate Hoists and Perform Other Duties

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for Certification and Qualification to Examine, Test, Operate Hoists and Perform Other Duties.

DATES: All comments must be received on or before November 27, 2020.

ADDRESSES: You may submit comment as follows. Please note that late, untimely filed comments will not be considered.

Electronic Submissions: Submit electronic comments in the following way:

• Federal eRulemaking Portal: https://www.regulations.gov. Follow the instructions for submitting comments for docket number MSHA-2020-0030. Comments submitted electronically, including attachments, to https://www.regulations.gov will be posted to the docket, with no changes. Because your comment will be made public, you are responsible for ensuring that your comment does not include any confidential information that you or a third party may not wish to be posted, such as your or anyone else's Social Security number or confidential business information.

• If you want to submit a comment with confidential information that you do not wish to be made available to the public, submit the comment as a written/paper submission.

Written/Paper Submissions: Submit written/paper submissions in the following way:

• Mail/Hand Delivery: Mail or visit DOL-MSHA, Office of Standards, Regulations, and Variances, 201 12th Street South, Suite 4E401, Arlington, VA 22202-5452.

• MSHA will post your comment as well as any attachments, except for information submitted and marked as confidential, in the docket at https://www.regulations.gov.

FOR FURTHER INFORMATION CONTACT: Roslyn Fontaine, Deputy Director, Office of Standards, Regulations, and Variances, MSHA, at MSHA.information.collections@dol.gov (email); (202) 693-9440 (voice); or (202) 693-9441 (facsimile).

SUPPLEMENTARY INFORMATION:

I. Background

Section 103(h) of the Federal Mine Safety and Health Act of 1977 (Mine Act), 30 U.S.C. 813(h), authorizes MSHA to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal or other mines.

Under section 103(a) of the Mine Act, authorized representatives of the Secretary or Secretary of Health and Human Services must make frequent inspections and investigations in coal or other mines each year for the purpose of gathering information with respect to mandatory health or safety standards.

Title 30 Code of Federal Regulations (CFR) 75.159 and 77.106 require coal mine operators to maintain a list of persons who are certified and qualified to perform duties under 30 CFR parts 75 and 77, such as examining for hazardous conditions, testing for methane and oxygen deficiency, conducting tests of air flow, performing electrical work, repairing energized surface high-voltage lines, and performing the duties of hoisting engineer. This information collection is necessary to ensure that only persons who are properly trained and sufficiently experienced are permitted to perform these duties. Although MSHA does not specify a format for the recordkeeping, it normally consists of the names of the certified and qualified persons listed in two columns on a sheet of paper. One column is for certified persons and the other is for qualified persons.

Sections 75.100 and 77.100 pertain to the certification of certain persons to perform specific examinations and tests. Sections 75.155 and 77.105 outline the requirements necessary to be qualified as a hoisting engineer or hoistman. Under sections 75.160, 75.161, 77.107, and 77.107-1, the mine operator must have an approved training plan developed to train and retrain the qualified and certified persons to effectively perform their tasks.

These regulations recognize State certification and qualification programs. However, where State programs are not available, MSHA may certify and qualify miners to carry out certain functions prescribed in the Mine Act.

Under this program, MSHA will qualify or certify individuals if these individuals meet the requirements for qualification or certification, fulfill any applicable retraining requirements, and remain employed at the same mine or by the same independent contractor.

Applications for MSHA qualification or certification are submitted to the MSHA Qualification and Certification Unit in Denver, Colorado. MSHA Form 5000-41, Safety & Health Activity Certification or Hoisting Engineer Qualification Request provides the coal mining industry with a standardized reporting format that expedites the certification and qualification process while ensuring compliance with the regulations. MSHA uses the information collected through this form to determine if applicants satisfy the requirements to obtain the certification or qualification sought. Persons must meet certain minimum experience requirements depending on the type of certification or qualification sought.

II. Desired Focus of Comments

MSHA is soliciting comments concerning the proposed information collection related to Certification and Qualification to Examine, Test, Operate Hoists and Perform Other Duties. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and in DOL-MSHA located at 201 12th Street South, Suite 4E401, Arlington, VA 22202-5452. Questions about the information collection requirements may be directed to the person listed in the FOR FURTHER INFORMATION CONTACT section of this notice from the previous collection of information.

III. Current Actions

This information collection request concerns provisions for Certification and Qualification to Examine, Test, Operate Hoists and Perform Other Duties. MSHA has updated the data with respect to the number of respondents, responses, burden hours, and burden costs supporting this information collection request from the previous information collection request.

Type of Review: Extension, without change, of a currently approved collection.

Agency: Mine Safety and Health Administration.

OMB Number: 1219-0127.

Affected Public: Business or other for-profit.

Number of Respondents: 674.

Frequency: On occasion.

Number of Responses: 3,259.

Annual Burden Hours: 330 hours.

Annual Respondent or Recordkeeper Cost: $56.10.

MSHA Forms: MSHA Form 5000-41, Safety and Health Activity Certification or Hoisting Engineers Qualification Request Form.

Comments submitted in response to this notice will be summarized in the request for Office of Management and Budget approval of the proposed information collection request; they will become a matter of public record and will be available at https://www.reginfo.gov.

Roslyn B. Fontaine,
Certifying Officer.

[FR Doc. 2020-21303 Filed 9-25-20; 8:45 am]

BILLING CODE 4510-43-P